FEDERAL COMMUNICATIONS COMMISSION

Notice of Public Information Collection(s) Being Submitted to OMB for Review and Approval

July 28, 2000.

SUMMARY: The Federal Communications, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the paperwork Reduction Act (PRA) that does not display a valid control number. Comments are requested concerning (a) whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology.

DATES: Written comments should be submitted on or before September 6, 2000. If you anticipate that you will be submitting comments, but find it difficult to do so within the period of time allowed by this notice, you should advise the contact listed below as soon as possible.

ADDRESSES: Direct all comments to Judy Boley, Federal Communications Commission, Room 1-C804, 445 12th St., SW., Washington, DC 20554 or via internet to jboley@fcc.gov.

FOR FURTHER INFORMATION CONTACT: For additional information or copies of the information collection(s), contact Judy Boley at 202-418-0214 or via internet at jboley@fcc.gov.

SUPPLEMENTARY INFORMATION: OMB Control Number: 3060-0775.

Title: Separate Affiliate Requirement for Independent Local Exchange Carrier (ILEC) Provision of International, Interexchange Services, 47 CFR Sec. 64.1901-64.1903.

Form Number: N/A.

Type of Review: Extension of existing collection.

Respondents: Businesses or other for-profit entities.

Number of Respondents: 10.

Estimated Time Per Response: 6,056 hours (avg).

Frequency of Response: Recordkeeping requirement.

Total Annual Burden: 60,563 hours.

Total Annual Cost: $1,003,000.

Needs and Uses: In CC Dockets 96-149 and 96-61, the FCC imposed recordkeeping requirements on independent local exchange carriers (ILECs). ILECs wishing to offer international, interexchange services must comply with the separate affiliate requirements of the Competitive Carrier Fifth Report and Order, which requires that an ILEC's international, interexchange affiliate must maintain books of account separate from such LECs' local exchange and other activities. The regulation does not require that the affiliate maintain books of account that comply with the Commission's Part 32 rules; rather, as a separate legal entity, the international, interexchange affiliate must maintain its own books of account. Thus, this regulation ensures that ILECs providing international, interexchange services through a separate affiliate are in compliance with the Communications Act, as amended.

OMB Control Number: 3060-0742.

Title: Telephone Number Portability, 47 CFR Part 52, Subpart C, Section 52.21-52.33.

Form Number: N/A.

Type of Review: Revision of currently approved collection.

Respondents: Businesses or other for-profit entities.

Number of Respondents: 1,685.

Estimated Time Per Response: 2 to 85.5 hours.

Frequency of Response: Recordkeeping; on occasion reporting requirement; third party disclosure.

Total Annual Burden: 9,239 hours.

Total Annual Cost: N/A.

Needs and Uses: The 47 CFR Part 52, Subpart C implements the statutory requirements that local exchange carriers (LECs) provide number portability as set forth in Section 251 of the Telecommunications Act of 1996. The Commission requires the following information to be collected from various entities: (a) The request must specifically request long-term number portability in areas inside or outside the 100 largest Metropolitan Statistical Areas (MSAs), identify the area covered by the request, and provide a tentative date six or more months in the future when the carrier expects to need number portability in order to port prospective customers; (b) carriers that are unable to meet the deadlines for implementing a long-term number portability solution are required to file with the Commission at least 60 days in advance of the deadline a petition to extend the time by which implementation in its network will be completed; (c) incumbent LECs are required to include many details in their cost support that are unique to the number portability proceeding pursuant to the Cost Classification Order; for instance, incumbent LECs must demonstrate that any incremental overhead costs claimed in their cost support are actually new costs incremental overhead costs claimed in their cost support are actually new costs incremental to and resulting from the provision of long-term portability; and (d) telecommunications carriers are required to provide information about their international and regional end-user telecommunications revenues that will enable the regional database administrator to allocate the cost of the number portability regional databases in competitively neutral manner. All the requirements will be used to implement Section 251 of the Communications Act, as amended.

OMB Control Number: 3060-0848.

Title: Deployment of Wireline Services Offering Advanced Telecommunications Capability, CC Docket No. 98-147.

Form Number: N/A.

Type of Review: Extension of currently approved collection.

Respondents: Businesses or other for-profit entities.

Number of Respondents: 1,400.

Estimated Time Per Response: 0.5 to 2 hours.

Frequency of Response: On occasion reporting requirement; third party disclosure.

Total Annual Burden: 15,000 hours.

Total Annual Cost: N/A.

Needs and Uses: The requirements implement Section 706 of the Communications Act of 1934, as amended, to promote deployment of advanced services without significantly degrading the performance of other services. All requirements will be used by the Commission and CLECs to facilitate the deployment of advanced data services and to implement Section 706 of the Act. The following collections of information implement Section 706:

(a) Showing regarding loop condition, 47 CFR 51.319(h)(5);

(b) Request for alternative physical access, 47 CFR Section 51.319(h)(7);

(c) Showing of significant degradation, 47 CFR Section 51.230(b)-(c);

(d) Information on type of technology, 47 CFR Section 51.231(b)-(c);

(e) Any party seeking designation of a technology as a known disturber should file a petition for declaratory ruling, 47 CFR Section 51.232(b);

(f) Showing of network harm, 47 CFR Section 51.233(b)-(c);

(g) List of equipment and affidavit, 47 CFR Section 51.323(b);

(h) Space limitation documentation, 47 CFR Section 51.321(f);

(i) Report of available collocation space, 47 CFR Section 51.321(h);

(j) Information on security training, 47 CFR Section 51.323(I)(3);

(k) Access to spectrum management procedures and policies, 47 CFR Section 51.231(a);

(l) Rejection and loop information, 47 CFR Section 51.231(a); and

(m) Notification of performance degradation, 47 CFR Section 51.233.

Federal Communications Commission.
Magalie Roman Salas,
Secretary.

[FR Doc. 00-19891 Filed 8-4-00; 8:45 am]

BILLING CODE 6712-01-P